DEPARTMENT OF JUSTICE

Antitrust Division

Notice Pursuant to the National Cooperative Research and Production Act of 1993—Information Warfare Research Project Consortium

Notice is hereby given that, on February 1, 2021, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Belle Artificial Intelligence Corporation, Cambridge, MA; Raytheon Integrated Defense Systems, Portsmouth, RI; SafeFlights Inc /d/b/a 14bis Supply Tracking, Burlington, MA; IERUS Technologies, Inc., Huntsville, AL; Norseman Defense Services, Inc., Elkridge, SC; Opal Soft, Inc., Sunnyvale, CA; Amentum Services Inc., Denver, CO; Southern Aerospace Company LLC, Madison, AL; Georgia Tech Applied Research Corporation (GTARC), Atlanta, GA; MarkLogic Corp, LLC., San Carlos, MD; Inonde, Mclean, VA; Intrinsic Enterprises Inc., Newcastle, WA; KeyW Corp, Severn, MD; Ocean Power Technologies, Inc., Monroe Township, NJ; Salesforce.com, Inc., San Francisco, CA; VIAVI Solutions, LLC, Colorado Springs, CO; Prescient Edge Corporation, McLean, VA; Boingo Wireless, Inc, Los Angeles, CA; Emerging Technology Ventures, Inc., Herndon, VA; Guidon Technology Solutions, Inc., Alamogordo, NM; Rampart Communications, Inc., Hanover, MD; RWC, Annapolis, MD; Secmation LLC, Raleigh, NC; SHINE Systems, LLC., Charlottesville, VA; Athena Technologies, LLC., Orlando, FL; Acumen Solutions, Inc., McLean, VA; TLC Solutions, Inc., Advanced Ground Information Systems, Inc., Jupiter, FL; Applied Information Sciences, Inc. (AIS), Reston, VA; Blank Slate Solution, Mount Pleasant, SC; Huckworthy LLC., Promia Incorporated, Novato, CA; Sequoia Holdings, LLC., Reston, VA; Signal Processing Technologies Inc., Merrimack, NH; Technology and Communications Systems Inc., Clearwater, FL; Artlin Consulting, LLC., Vienna, VA; Axon Enterprise Inc., Scottsdale, GA; Daines Advisory Inc., ALhambra, CA; MI Technical Solutions Inc., Chesapeake, VA; B23 LLC., Tysons, VA; LS Telcom, Inc., Bowie, MD; Tygart Technology, Inc., Fairmont, WV; Baker Street Scientific, Inc., Rome, GA; BoxBoat Technologies, LLC., Bethesda, MD; Expansia Group LLC, Nashua, NA; UBERETHER, Inc., Sterling, VA; WILLCOR Inc., College Park, MD; HigherEchelon, Inc., Huntsville, AL; COMSovereign Holding Corp., Dallas, TX; DEEPSIG, Arlington, VA; Granite Telecommunications LLC., Quincy, MA; ProSync Technology Group, Ellicott City, MD; The MIL Corporation, Bowie, MD; XATOR Corporation, Reston, VA; BIAS Corporation, Rosewell, GA; Bluemont Technology & Research, Inc., Luray, VA; Ansys, Inc., Canonsburg, PA; DeVilliers Technology Solutions, Stafford, VA; ITC Defense Corp, Arlington, VA; ReefPoint Group LLC, Annapolis, MD; Saltenna, Mclean, VA; General Electric Company, Niskayuna, NY; Trilogic Systems Corporation, Gloucester, MA; CellAntenna Corporation, Coral Springs, FL; Corsair Technical Services Inc., Bellevue, WA; Ericsson Inc., Plano, TX; Immersion Consulting, LLC., Annapolis, MD; Raft LLC., Reston, VA; Skylark Wireless LLC., Houston, TX; I2TSMEGLOBAL, San Antonio, TX; American Defense International, Inc., West Tower, DC, FL; II-VI Aerospace & Defense Inc., Murrieta, CA; Selection Pressure LLC dba Ion Channel, Alexandria, VA; KNC Strategic Services, Oceanside, CA; Saab Barracuda LLC., Lillington, NC; CAE USA MSI, Tampa, FL; CoVar Applied Technologies, McLean, VA; Nutronics, Inc., Longmont, CO; R2 Space, Inc.d/b/a Orbital Effects, Ann Arbor, MI; Kord Technoloiges, LLC., Huntsville, AL; Battelle Memorial Institute, Columbus, OH; Bluestone Analytics, LLC., Charlottesville, VA; Nexus Life Cycle Management, LLC., Stevenson, WA; Sapient Logic, Escondido, CA; Swift Star Technologies, Inc, Austin, TX; Antenna Research Associates, Inc. Laurel, MD; Dover Microsystems, Inc., Waltham, MA; Dutch Ridge Consulting Group, Inc., Beaver, PA; Quanterion Solutions Incorporated, Utica, NY; Cellco, Marshall, VA; Cellco Partnership dba Verizon Wireless, Basking Ridge, MD; Fuse AI, Inc., Washington, DC; A-Tech., LLC, Albuquerque, NM; Bright Apps LLC., Walnut Creek, CA; and Tomahawk Robotics Inc., Melbourne, FL have been added as parties to this venture.

Also, Attollo, LLC., Cumberland, RI; Cask Technologies, LLC., San Diego, CA; CommTech Systems Inc., El Cajon, CA; GSD, LLC., Williamsburg, VA; Heilig Defense Inc., Arlington, VA; ODME Solutions, LLC., San Diego, CA; OneRAN, LLC., Sunnyvale, CA; PreTalen, Ltd., Beavercreek, OH; RPI Group Inc., Fredericksburg, VA; Systems and Proposal Engineering Company (Spec Innovations), Manassas, VA; Three Wire Systems, LLC., Falls Church, VA; and XST Inc., San Diego, CA have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on November 9, 2020. A notice was published in the Federal Register pursuant to Section 6(b) of the Act on November 20, 2020 (85 FR 74384).

Suzanne Morris,
Chief, Premerger and Division Statistics, Antitrust Division.

[FR Doc. 2021-02955 Filed 2-11-21; 8:45 am]

BILLING CODE P